DEPARTMENT OF COMMERCE

National Oceanic and Atmospheric Administration

[I.D. 122805A]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council), its Squid, Mackerel, Butterfish Committee, Bycatch Committee, Magnuson-Stevens Act Reauthorization Committee and its Executive Committee will hold public meetings.

DATES: The meetings will be held from Tuesday, January 17, 2006, through Thursday, January 19, 2006. See SUPPLEMENTARY INFORMATION for a meeting agenda.

ADDRESSES: This meeting will be held at the Sheraton Annapolis Hotel, 173 Jennifer Rd, Annapolis, MD; telephone 410-266-3131.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION:

Meeting Agenda

Tuesday, January 17, 2005

The Squid, Mackerel, Butterfish Committee will meet from 10 a.m.-12:30 p.m. The Committee will discuss and adopt alternatives for Amendment 10 and discuss potential impacts of New England Council's Herring Amendment 1 on Mid-Atlantic vessels.

The Bycatch Committee will meet from 1:30-2:30 p.m. The Committee will review the Magnuson-Stevens Act mandate regarding standardized bycatch reporting methodology and discuss NMFS standardized bycatch reporting methodology initiative.

The Magnuson-Stevens Act Reauthorization Committee will meet from 2:30-3:30. The Committee will discuss different versions of the Magnuson-Stevens Act Reauthorization (Administration, House, and Senate Bills) and review Council's recommended Magnuson-Stevens Act Reauthorization priorities.

The Ecosystems Committee will meet from 3:30-5 pm. The Committee will develop a draft final report.

Wednesday, January 18, 2005

The Council will convene at 8 a.m., at which time, NMFS' Northeast Fisheries Science Center will give a presentation on Ecosystems Capabilities. The Council will receive a report on the outcome of the 42nd SAW/SARC process from 9-10 a.m. A report will be given regarding the outcome of the 42nd SAW/SARC process for Atlantic Mackerel, Illex Squid, and Silver Hake (Whiting). Regular Council business will be conducted from 10 a.m. until noon. From 1-4 p.m. the Council will address Framework 6 to the Summer Flounder, Scup, and Black Sea Bass FMP and Amendment 15 Scoping Document. The Executive Committee will meet from 4-5 p.m.

Thursday, January 19, 2005

On Thursday, January 19, the Highly Migratory Species (HMS) Committee will meet from 8-9 a.m. to develop Council comments on the amendment to the HMS/Billfish Fishery Management Plan. The Council will convene at 9 a.m. to address Framework 3 to the Joint Monkfish FMP. The Council will receive a presentation by a U.S. Navy official on undersea warfare training ranges at 10 a.m. At 11 a.m. until adjournment, the Council will receive committee reports and address any continuing or new business. The Council will also conduct its regular business session to approve December 2005 minutes and receive reports. Meeting 1 of Framework 6 to Summer Flounder, Scup, and Black Sea Bass FMP will be held to review options regarding use of conservation equivalency by multi-state sub regions. Issues to be included in the Scoping Document to Amendment 15 to the Summer Flounder, Scup, and Black Sea Bass FMP will also be discussed. The Highly Migratory Species (HMS) Committee will develop comments on the proposed amendment to the consolidated HMS Fishery Management Plan. The Council will review and adopt proposed changes regarding utilization of DAS (days-at-sea) to Framework 3 of the Joint Monkfish FMP. A U.S. Navy official will give a presentation on Undersea Warfare Training Ranges. The presentation will be followed by committee reports and any continuing or new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to M. Jan Saunders (302-674-2331 ext: 18) at least 5 days prior to the meeting date.

Dated: December 30, 2005.
Tracey Thompson,
Acting Director, Office of Sustainable Fisheries, National Marine Fisheries Service.

[FR Doc. E5-8286 Filed 1-4-06; 8:45 am]

BILLING CODE 3510-22-S